DEPARTMENT OF TRANSPORTATION

Federal Aviation Administration

Advisory Circular; Compliance Criteria for 14 CFR 33.28, Aircraft Engines, Electrical and Electronic Engine Control Systems

AGENCY: Federal Aviation Administration, DOT.

ACTION: Notice of availability of advisory circular (AC) No. 33.28-1, Compliance Criteria for 14 CFR 33.28, Aircraft Engines, Electrical and Electronic Engine Control Systems.

SUMMARY: The Federal Aviation Administration (FAA) announces the availability of AC No. 33.28-1, Compliance Criteria for 14 CFR 33.28, Aircraft Engines, Electrical and Electronic Engine Control Systems.

DATES: The Engine and Propeller Directorate, Aircraft Certification Service, issued AC 33.28-1 on June 29, 2001.

FOR FURTHER INFORMATION CONTACT: Gary Horan, Engine and Propeller Standards Staff, ANE-110, 12 New England Executive Park, Burlington, MA 10803; telephone: (781) 238-7164; fax: (781) 238-7199; e-mail: gary.horan@faa.gov. The subject AC is available on the Internet at the following address: www.airweb.faa.gov/rgl.

SUPPLEMENTARY INFORMATION: The FAA published a notice in the Federal Register on January 26, 2000 (65 FR 4296) to announce the availability of the proposed AC and invite interested parties to comment. The FAA has carefully considered all comments received.

Background

This AC provides guidance material for methods of complying with § 33.28, Electrical and Electronic Control (EEC) Systems. Initially, EEC technology was primarily applied to engines designed for large transport aircraft applications; the certification practice and implementation of § 33.28 was oriented toward these applications. When the use of EEC technology was limited to a small group of manufacturers, the information and guidance provided in the rule itself was adequate. However, because the use of EEC controls has spread, the need for additional advisory material has become evident in several recent engine certification programs.

(Authority: 49 U.S.C. 106(g), 40113, 44701-44702, 44704.)

Dated: Issued in Burlington, Massachusetts, on August 16, 2001.
Jay J. Pardee,
Manager, Engine and Propeller Directorate, Aircraft Certification Service.

[FR Doc. 01-21300 Filed 8-22-01; 8:45 am]

BILLING CODE 4910-13-M